DEPARTMENT OF LABOR

Employment and Training Administration

[TA-W-51,953]

WM Jette And Sons, Inc., Providence, RI; Notice of Termination of Investigation

Pursuant to section 221 of the Trade Act of 1974, an investigation was initiated on June 5, 2003 in response to a worker petition which was filed by a company official on behalf of workers at WM Jette and Sons, Inc., Providence, Rhode Island (TA-W-51,953).

The petitioner has requested that the petition be withdrawn. Consequently, further investigation in this case would serve no purpose, and the investigation has been terminated.

Signed in Washington, DC, this 9th day of July 2003.
Linda G. Poole,
Certifying Officer, Division of Trade Adjustment Assistance.

[FR Doc. 03-18555 Filed 7-21-03; 8:45 am]

BILLING CODE 4510-30-P